DEPARTMENT OF LABOR

Employment and Training Administration

[TA-W-55,601]

California Cedar Products Company, Stockton, CA; Notice of Negative Determination on Reconsideration

On October 28, 2004, the Department issued an Affirmative Determination Regarding Application for Reconsideration for the workers and former workers of the subject firm. The notice was published in the Federal Register on November 12, 2004 (69 FR 65456).

The Department initially denied Trade Adjustment Assistance (TAA) and Alternate Trade Adjustment Assistance (ATAA) to workers of California Cedar Products Company, Stockton, California because production ceased at the subject facility more than a year prior to the petition date (August 31, 2004).

Subsequent to the issuance of the initial determination, the Department received new information that seemed to indicate that production may have occurred at the subject facility during the relevant period (September 1, 2003 through August 31, 2004).

During the reconsideration investigation, the Department requested more information from the subject company regarding production at the subject facility during the relevant period.

The reconsideration investigation revealed that the subject company did not produce pencil slats during the relevant period and that company sales were from existing inventory.

Conclusion

After reconsideration, I affirm the original notice of negative determination of eligibility to apply for worker adjustment assistance for workers and former workers of California Cedar Products Company, Stockton, California.

Signed at Washington, DC, this 30th day of November 2004.
Elliott S. Kushner,
Certifying Officer, Division of Trade Adjustment Assistance.

[FR Doc. 04-28569 Filed 12-29-04; 8:45 am]

BILLING CODE 4510-30-P